INTERNATIONAL TRADE COMMISSION

[Investigation No. 337-TA-944 (Enforcement Proceeding)]

Certain Network Devices, Related Software and Components Thereof (I) Notice of Institution of Formal Enforcement Proceeding

AGENCY: U.S. International Trade Commission.

ACTION: Notice.

SUMMARY: Notice is hereby given that the U.S. International Trade Commission has instituted a formal enforcement proceeding relating to June 23, 2016, cease and desist order issued in the above-referenced investigation.

FOR FURTHER INFORMATION CONTACT: Ronald A. Traud, Office of the General Counsel, U.S. International Trade Commission, 500 E Street SW., Washington, DC 20436, telephone (202) 205-3427. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server (https://www.usitc.gov). The public record for this investigation may be viewed on the Commission's electronic docket (EDIS) at https://edis.usitc.gov. Hearing-impaired persons are advised that information on this matter can be obtained by contacting the Commission's TDD terminal on (202) 205-1810.

SUPPLEMENTARY INFORMATION: The Commission instituted the original investigation on January 27, 2015, based on a complaint filed by Cisco Systems, Inc. (“Cisco”). 80 FR 4314 (Jan. 27, 2015). Pertinent to this investigation, the complaint alleged violations of Section 337 of the Tariff Act of 1930, as amended, 19 U.S.C. 1337, in the importation into the United States, the sale for importation into the United States, and the sale within the United States after importation of certain network devices, related software, and components thereof by reason of infringement of any of claims 1-2, 8-11, and 17-19 of U.S. Patent No. 7,162,537 (“the `537 patent”). Id. The notice of institution of the investigation named Arista Networks, Inc. (“Arista”) as a respondent and the Office of Unfair Import Investigations (“OUII”) as a party. Id.

On June 23, 2016, the Commission found that a Section 337 violation occurred as to the `537 patent and therefore issued a cease and desist order (“CDO”) against Arista and a limited exclusion order (“LEO”). 81 FR 42375-76 (June 29, 2016). The CDO prohibited Arista from importing, selling, marketing, advertising, distributing, transferring (except for exportation), and soliciting United States agents or distributors for certain network devices, related software, and components thereof that infringe the asserted claims of the `537 patent. Id. at 42376.

On August 26, 2016, Cisco filed a complaint requesting that the Commission institute a formal enforcement proceeding under Commission Rule 210.75(b) to investigate alleged violations of the CDO by Arista. Having examined the enforcement complaint and the supporting documents, the Commission has determined to institute a formal enforcement proceeding to determine whether Arista is in violation of the June 23, 2016 CDO issued in the original investigation and to determine what, if any, enforcement measures are appropriate. Arista is named as a respondent and OUII is named as a party.

The authority for the Commission's determination is contained in Section 337 of the Tariff Act of 1930, as amended (19 U.S.C. 1337), and in section 210.75 of the Commission's Rules of Practice and Procedure (19 CFR 210.75).

By order of the Commission.
Issued: September 28, 2016,
Katherine M. Hiner,
Acting Supervisory Attorney.

[FR Doc. 2016-23863 Filed 10-3-16; 8:45 am]

BILLING CODE 7020-02-P